DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the applications for modifications of existing special permits described herein.

DATES: Comments must be received on or before March 11, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on February 19, 2025.
T Glenn Foster,
Chief, Regulatory Review and Reinvention Branch, Office of Hazardous Materials Safety Pipeline and Hazardous Materials Safety Administration.

Special Permits Data
Application No. | Applicant | Regulation(s) affected | Nature of the special permits thereof
8131-M | National Aeronautics and Space Administration | 173.301(a)(d), 173.301(h), 173.302a(a) | To modify the special permit to authorize additional packagings. (modes 1, 2, 4).
8178-M | National Aeronautics and Space Administration | 173.302(a)(1), 173.301(f) | To modify the special permit to authorize an additional packaging. (modes 1, 4).
16485-M | Entegris, Inc | 180.213(b) | To modify the special permit to authorize the low-stress peen requalification markings on the upper sidewall of the cylinder. (modes 1, 2, 3).
20418-M | Hanwha Cimarron LLC | 173.302(a), 173.304 | To modify the special permit to authorize an additional periodic retest method. (modes 1, 2, 3).
20549-M | CellBlock FCS, LLC | 173.185(c), 172.102(c)(1), 173.159a(c)(2), 173.185(c)(1)(iii), 173.185(c)(1)(iv), 173.185(c)(1)(v), 173.185(c)(3), 173.185(f) | To modify the special permit to provide relief from 49 CFR § 178.602(c) to account for varying size, weight, and density of batteries that will be packaged and shipped in accordance with the requirements of the permit. (modes 1, 2, 3).
21136-M | Hanwha Cimarron LLC | 173.302(a)(1) | To modify the special permit to authorize an additional periodic test method. (modes 1, 2, 3).
21442-M | CellBlock FCS, LLC | 172.200, 172.300, 172.400, 172.700(a), 173.185(b), 173.185(f) | To modify the special permit to provide relief from 178.602(c) that addresses the preparation and configuration of packagings and packages for testing. (modes 1, 2, 3).
21491-M | Hanwha Cimarron LLC | 173.302(a) | To modify the special permit to authorize an additional periodic test method. (modes 1, 2, 3).
21503-M | Samsung Austin Semiconductor, LLC | 171.23(a), 173.304(a)(1), 173.304(a)(2) | To modify the special permit to authorize use of DOT-3AL specification cylinders. (modes 1, 2, 3).
21667-M | Hanwha Cimarron LLC | 173.302(a) | To modify the special permit to authorize an additional periodic test method. (modes 1, 2, 3).
21676-M | Anduril Industries, Inc | 172.101(j), 173.185(a)(1) | To modify the special permit to authorize lithium ion batteries that have completed all U.N. tests and that exceed 35 kg net weight aboard cargo-only aircraft. (modes 1, 2, 3, 4).

[FR Doc. 2025-02971 Filed 2-21-25; 8:45 am]

BILLING CODE P